FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 19, 2012.

A. Federal Reserve Bank of Chicago (Colette A. Fried, Assistant Vice President) 230 South LaSalle Street, Chicago, Illinois 60690-1414:

1. The Job Family which consists of Julia C. Job, Stuart L. Job, and Susan Job Hollingshead, as a group acting in concert and individually by Stuart L. Job and Susan Job Hollingshead, all of Knoxville, Iowa; to acquire control of Duclarkee, Inc., and thereby indirectly acquire control of Iowa State Savings Bank, both in Knoxville, Iowa.

2. Richard P. DelMedico, Ontario, Wisconsin; Doreen M. Dahl, Cashton, Wisconsin; Denise M. Gunderson, Byron, Minnesota; Diana M. Fischer, Reno, Nevada; and Debra M. Schmitz, Norwalk, Wisconsin; together as a group acting in concert, to retain control of Ontario Bancorporation, Inc., and thereby indirectly retain control of Bank of Ontario, both in Ontario, Wisconsin.

Board of Governors of the Federal Reserve System, October 4, 2012.
Robert deV. Frierson,
Secretary of the Board.

[FR Doc. 2012-24883 Filed 10-9-12; 8:45 am]

BILLING CODE 6210-01-P